DEPARTMENT OF COMMERCE

International Trade Administration

[A-508-812]

Magnesium From Israel: Postponement of Preliminary Determination in the Less-Than-Fair-Value Investigation

AGENCY: Enforcement and Compliance, International Trade Administration, Department of Commerce.

DATES: Applicable April 23, 2019.

FOR FURTHER INFORMATION CONTACT: Bryan Hansen at (202) 482-3683, or Minoo Hatten at (202) 482-1690, AD/CVD Operations, Office I, Enforcement and Compliance, International Trade Administration, U.S. Department of Commerce, 1401 Constitution Avenue NW, Washington, DC 20230.

SUPPLEMENTARY INFORMATION:

Background

On November 13, 2018, the Department of Commerce (Commerce) initiated the less-than-fair-value (LTFV) investigation of imports of magnesium from Israel.¹ Commerce exercised its discretion to toll all deadlines affected by the closure of the Federal Government from December 22, 2018, through January 28, 2019.² Accordingly, the revised deadline for the preliminary determination in this investigation is May 13, 2019.³

¹ See Magnesium From Israel: Initiation of Less-Than-Fair-Value Investigation, 83 FR 58533 (November 20, 2018) (Initiation Notice).

² See Memorandum, “Deadlines Affected by the Shutdown of the Federal Government,” dated January 28, 2019. All deadlines in this segment of the proceeding have been extended by 40 days.

³ The deadline for the preliminary determination is normally 140 days after we initiate an investigation. After tolling, this date is May 12, 2019, which is a Sunday. Commerce practice dictates that where a deadline falls on a weekend or Federal holiday, the appropriate deadline is the next business day (in this instance, May 13, 2019). See Notice of Clarification: Application of “Next Business Day” Rule for Administrative Determination Deadlines Pursuant to the Tariff Act of 1930, As Amended, 70 FR 24533 (May 10, 2005).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner ⁴ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

⁴ The petitioner is US Magnesium LLC.

On April 9, 2019, the petitioner submitted a timely request that Commerce postpone the preliminary determination in this LTFV investigation.⁵ The petitioner stated that it requests postponement of the preliminary determination of this investigation because the initial questionnaire responses submitted by Dead Sea Magnesium, Ltd. are substantially deficient and it may not be possible for Commerce to obtain usable corrected responses within the current schedule.⁶

⁵ See Letter from the petitioner, “Re: Magnesium from Israel: Petitioner's Request For Postponement Of The Preliminary Determination,” dated April 9, 2019 (Request for Postponement).

⁶ See Request for Postponement.

Because there are no compelling reasons to deny the request, Commerce, in accordance with section 733(c)(1)(A) of the Act, is postponing the deadline for the preliminary determination by 50 days (i.e., 190 days after the date on which this investigation was initiated plus 40 days for tolling). As a result, Commerce will issue its preliminary determination no later than July 1, 2019. In accordance with section 735(a)(1) of the Act and 19 CFR 351.210(b)(1), the deadline for the final determination of this investigation will continue to be 75 days after the date of publication of the preliminary determination, unless postponed at a later date.

This notice is issued and published pursuant to section 733(c)(2) of the Act and 19 CFR 351.205(f)(1).

Dated: April 17, 2019.
Jeffrey I. Kessler,
Assistant Secretary for Enforcement and Compliance.

[FR Doc. 2019-08134 Filed 4-22-19; 8:45 am]

BILLING CODE 3510-DS-P